DEPARTMENT OF LABOR

Office of the Secretary

Submission for OMB Review; Comment Request

August 30, 2001.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation contact Darrin King on (202) 693-4129 or E-Mail: King-Darrin@dol.gov.

Comments should be sent to Office of Information and Regulatory Affairs, Attn: Stuart Shapiro, OMB Desk Officer for OSHA, Office of Management and Budget, Room 10235, Washington, DC 20503 ((202) 395-7316), within 30 days from the date of this publication in the Federal Register.

The OMB is particularly interested in comments which:

• evaluate whether the proposed collection of information is necessary for the proper performance of the functions of the agency, including whether the information will have practical utility;

• evaluate the accuracy of the agency's estimate of the burden of the proposed collection of information, including the validity of the methodology and assumptions used;

• enhance the quality, utility, and clarity of the information to be collected; and

• minimize the burden of the collection of information on those who are to respond, including through the use of appropriate automated, electronic, mechanical, or other technological collection techniques or other forms of information technology, e.g., permitting electronic submission of responses.

Type of Review: Extension of a currently approved collection.

Agency: Occupational Safety and Health Administration (OSHA).

Title: Cranes and Derricks Standard for Construction: Recording Tests for Toxic Gases and Oxygen-Deficient Atmospheres in Enclosed Spaces.

OMB Number: 1218-0054.

Affected Public: Business or other for-profit; Not-for-profit institutions; Federal Government; and State, Local, or Tribal Government.

Type of Response: Recordkeeping and Third-party disclosure.

Frequency: On occasion.

Number of Respondents: 50.

Number of Annual Responses: 2,900.

Estimated Time Per Response: 2 minutes.

Total Burden Hours: 97.

Total Annualized Capital/Startup Costs: $0.

Total Annual Costs (operating/maintaining systems or purchasing services): $9,000.

Description: 29 CFR 1926.550(a)(11) requires that oxygen and toxic gas test be conducted whenever internal combustion engines of construction cranes or derricks exhaust into enclosed workspaces.

Type of Review: Extension of a currently approved collection.

Agency: Occupational Safety and Health Administration (OSHA).

Title: Construction Standards on Posting Emergency Telephone Numbers and Floor Load Limits.

OMB Number: 1218-0093.

Affected Public: Business or other for-profit; Not-for-profit institutions; Federal Government; and State, Local, or Tribal Government.

Type of Response: Third-party disclosure.

Frequency: On occasion.

Number of Respondents: 140,325.

Number of Annual Responses: 140,325.

Estimated Time Per Response: 2 minutes to post an emergency phone number and 5 minutes to post floor load limits.

Total Burden Hours: 5,726.

Total Annualized Capital/Startup Costs: $0.

Total Annual Costs (operating/maintaining systems or purchasing services): $0.

Description: 29 CFR 1926.50(f) requires employers to post emergency telephone numbers at the worksite if the 911 emergency telephone service is not available. 29 CFR 1926.250(a)(2) requires that employers post the maximum safe load limits of floors located in storage areas inside buildings or other structures, unless the floors are on a grade.

Type of Review: Extension of a currently approved collection.

Agency: Occupational Safety and Health Administration (OSHA).

Title: Cranes and Derricks Standards for Construction: Notification of Operational Specification and Hand Signals.

OMB Number: 1218-0115.

Affected Public: Business or other for-profit; Not-for-profit institutions; Federal Government; and State, Local, or Tribal government.

Type of Response: Recordkeeping and third-party disclosure.

Frequency: On occasion.

Number of Respondents: 67,751.

Number of Annual Responses: 67,773.

Estimated Time Per Response: 5 minutes.

Total Burden Hours: 5,416.

Total Annualized Capital/Startup Costs: $0.

Total Annual Costs (operating/maintaining systems or purchasing services): $431,158.

Description: 29 CFR 1926.550 (a)(1), (a)(2), (a)(4), and (a)(16) require employers to provide notification of specified operating characteristics pertaining to cranes and derricks using documentation, posting or revising maintenance-instruction plates, tags or decals, and to notify employees of hand signals used to communicate with equipment operations by posting and illustration applicable signals at the worksite in order to prevent injury to workers.

Type of Review: Extension of a currently approved collection.

Agency: Occupational Safety and Health Administration (OSHA).

Title: Cranes and Derricks Standard for Construction: Posting Weight and Load Capacity of Personnel Platforms.

OMB Number: 1218-0151.

Affected Public: Business or other for-profit; Not-for-profit institutions; Federal Government; and State, Local, or Tribal Government.

Type of Response: Third-party disclosure.

Frequency: On occasion.

Number of Respondents: 2,750.

Number of Annual Responses: 2,750.

Estimated Time Per Response: 5 minutes.

Total Burden Hours: 229.

Total Annualized Capital/Startup Costs: $0.

Total Annual Costs (operating/maintaining systems or purchasing services): $0.

Description: 29 CFR 1926.550(g)(4)(ii)(I) requires employers to post conspicuously with a plate or other permanent marking the weight and related-load capacity or maximum intended load of each platform used to raise and lower employees to a worksite using a crane or derrick. This requirement helps employers to avoid exceeding the lifting capacity and prevents crane or derrick collapses thus avoiding serious injuring or death to employees.

Darrin A. King,
Acting Departmental Clearance Officer.

[FR Doc. 01-23879 Filed 9-24-01; 8:45 am]

BILLING CODE 4510-26-M